FEDERAL COMMUNICATIONS COMMISSION

Notice of Public Information Collection(s) Being Reviewed by the Federal Communications Commission, Comments Requested

March 8, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 15, 2000. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-XXXX.

Title: Application for a Multipoint Distribution Service or Instructional Television Fixed Service Booster Station, Response Station Hub or 125 kHz (I Channels) Point to Multipoint Transmissions.

Form Number: FCC 331.

Type of Review: New collection.

Respondents: Business or other for-profit, and not-for-profit institutions.

Number of Respondents: 4,000.

Estimated Time per Response: 32 hours (2 hours applicant, 6 hours contract attorney, 24 hours contract consulting engineer).

Frequency of Response: Reporting, on occasion.

Total Annual Burden: 8,000.

Total Annual Costs: $19,200,000.

Needs and Uses: On September 17, 1998, the Commission adopted a Report and Order (“Two-Way Order”) in MM Docket No. 97-217 in the matter of Amendment of Parts 1, 21 and 74 to Enable Multipoint Distribution Service (“MDS”) and Instructional Television Fixed Service (“ITFS”) Licensees to Engage in Fixed Two-Way Transmissions. These rule changes enhance the flexibility of MDS and ITFS operations through facilitated use of response stations, use of cellular configurations, use of signal booster stations with program origination capability, and use of variable bandwidth (subchanneling or superchanneling). As a result of these rule changes, MDS and ITFS frequencies in the 2 GHz band may be used by licensees, or leased to operators, for broadband data, video or voice transmissions to and/or from subscribers' premises, promoting the competitive position of the relevant industry, augmenting the educational uses of these frequencies by ITFS entities, and increasing services to consumers. The Commission has adopted an initial one-week filing window, in which it will accept FCC Form 331 applications from MDS and ITFS licensees. Following the initial one-week filing window, the Commission will accept FCC Form 331 applications via a rolling, one-day filing window.

The Commission has developed an FCC Form 331 to be used by the licensees of MDS, Multichannel Multipoint Distribution Service (MMDS), ITFS or Commercial ITFS to apply for modification to main station, response station hub, high-power signal booster station, notification of low-power signal booster station or 125 kHz (I channel(s)) point-to-multipoint transmissions.

Federal Communications Commission.
Magalie Roman Salas,
Secretary.

[FR Doc. 00-6338 Filed 3-14-00; 8:45 am]

BILLING CODE 6712-01-P